INTERNATIONAL TRADE COMMISSION

[Investigation No. 337-TA-504]

In the Matter of Certain Signature Capture Transaction Devices and Component Parts Thereof, and Systems That Employ Such Devices; Notice of a Commission Determination Not To Review an Initial Determination Terminating the Investigation on the Basis of a Settlement Agreement and Withdrawal of the Complaint

AGENCY: International Trade Commission.

ACTION: Notice.

SUMMARY: Notice is hereby given that the U.S. International Trade Commission has determined not to review the presiding administrative law judge's (“ALJ's”) initial determination (“ID”) granting a joint motion to terminate the above-captioned investigation as to two respondents on the basis of a settlement agreement and a motion by complainant to withdraw the complaint as to the remaining respondent.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation, which concerns allegations of unfair acts in violation of section 337 of the Tariff Act of 1930 in the importation and sale of certain signature capture transaction devices, component parts thereof, and systems that employ such devices on January 9, 2004, based on a complaint filed by NCR Corporation, (“NCR”) of Dayton, Ohio. The respondents named in the notice of investigation are Ingenico S.A., d/b/a Groupe Ingenico of Puteaux Cedex, France, and Ingenico Corp., of Roswell, Georgia (collectively “Ingenico”), and SMTC Corporation of Ontario, Canada (“SMTC”).

On March 5, 2004, NCR and Ingenico filed a joint motion to terminate the investigation on the basis of the settlement agreement, and NCR filed a motion to terminate the investigation with respect to SMTC based on withdrawal of the complaint as to SMTC. The Commission investigative attorney supported both motions.

On March 22, 2004, the presiding ALJ issued the subject ID (Order No. 8) granting the joint motion of NCR and Ingenico to terminate the investigation on the basis of a settlement agreement and NCR's motion to withdraw the complaint as to SMTC.

The authority for the Commission's determination is contained in section 337 of the Tariff Act of 1930, as amended (19 U.S.C. 1337), and in section 210.42 of the Commission's rules of practice and procedure (19 CFR 210.42).

By order of the Commission.
Issued: April 16, 2004.
Marilyn R. Abbott,
Secretary to the Commission.

[FR Doc. 04-9242 Filed 4-22-04; 8:45 am]

BILLING CODE 7020-02-P